DEPARTMENT OF STATE

[Public Notice: 12163]

U.S. Department of State Advisory Committee on Private International Law: Public Meeting on the Hague Conference on Private International Law (HCCH), Eighth Meeting Special Commission on Practical Operations 1980 Child Abduction Convention

The Department of State's Advisory Committee on Private International Law (ACPIL) will hold a virtual meeting to discuss the Hague Special Commission on the Eighth Meeting of the Practical Operation on the 1980 Child Abduction Convention on September 12, 2023. The meeting will be held in WebEx. The program is scheduled to run from 1:00 p.m. to 3:00 p.m. Eastern Daylight Time.

The meeting will discuss the reports and documents completed concerning the Practical Operations of the 1980 Child Abduction Convention and 1996 Child Protection Convention regarding the feasibility of one or more private international law instruments. The purpose of the public meeting is to obtain the views of concerned stakeholders on the matters presented in the relevant documents, which will be made available by the HCCH at https://www.hcch.net/en/publications-and-studies/details4/?pid=8488&dtid=57.

Members of the public may attend this virtual session and will be permitted to participate in the discussion. Virtual attendance is limited to 100 persons, so each member of the public that wishes to attend this session must provide: Name, contact information, and affiliation to pil@state.gov, not later than September 8, 2023. When you register, please indicate whether you require captioning. The WebEx site and agenda will be forwarded to individuals who register. Requests made after that date will be considered but might not be able to be fulfilled.

Karin Kizer,
Attorney-Adviser, Office of Private International Law, Office of the Legal Adviser, Department of State.

[FR Doc. 2023-18510 Filed 8-25-23; 8:45 am]

BILLING CODE 4710-08-P